DEPARTMENT OF STATE

[Public Notice 5884]

Notice of Intent To Prepare an Environmental Impact Statement and To Conduct Scoping Meetings and Notice of Floodplain and Wetland Involvement; Transcanada Keystone Pipeline; Correction

ACTION: Notice; correction.

SUMMARY: On October 11, 2006, Notice was published in the Federal Register (volume 71, number 196, 59849-58951) pertaining to the reporting of “Notice of Intent To Prepare an Environmental Impact Statement and To Conduct Scoping Meetings and Notice of Floodplain and Wetland Involvement; Transcanada Keystone Pipeline, L.P.” The referenced notice is hereby corrected to change two dates on page 59849 from the 28th to the 26th, so that the current two lines that read “October 28, 2006, 7 to 10 p.m., Clark, South Dakota” and “October 28, 2006, 7 to 10 p.m., Seward, Nebraska” instead reads “October 26, 2006, 7 to 10 p.m., Clark, South Dakota” and “October 26, 2006, 7 to 10 p.m., Seward, Nebraska”, respectively.

FOR FURTHER INFORMATION CONTACT: For further information contact Elizabeth A. Orlando, Foreign Affairs Officer, U.S. Department of State, (telephone: 202/647-4284). The address is: U.S. Department of State, OES/ENV, Room 2657, Washington, DC 20520.

Dated: October 18, 2006.
David Brown,
Office Director, Bureau of Oceans and International Environmental and Scientific Affairs/Office of Environmental Policy, Department of State.

[FR Doc. E6-17792 Filed 10-23-06; 8:45 am]

BILLING CODE 4710-09-Pp